DEPARTMENT OF AGRICULTURE

Agricultural Marketing Service

[Doc. No. AMS-FGIS-21-0018]

Solicitation of Nominations for Members of the USDA Grain Inspection Advisory Committee

AGENCY: Agricultural Marketing Service, USDA.

ACTION: Notice to solicit nominees.

SUMMARY: The Department of Agriculture's (USDA) Agricultural Marketing Service (AMS) is seeking nominations for individuals to serve on the USDA Grain Inspection Advisory Committee (Advisory Committee). The Advisory Committee meets no less than once annually to advise AMS on the programs and services it delivers under the U.S. Grain Standards Act (USGSA). Meetings are held virtually or in a hybrid style with participants having a choice whether to attend in person or virtually. Recommendations by the Advisory Committee help AMS better meet the needs of its customers who operate in a dynamic and changing marketplace.

DATES: AMS will consider nominations received by August 9, 2021.

ADDRESSES: Submit nominations for the Advisory Committee by completing Form AD-755 and sending it by email to: Kendra.C.Kline@usda.gov.

Form AD-755 may be obtained via USDA's website: https://www.ams.usda.gov/about-ams/facas-advisory-councils/giac.

FOR FURTHER INFORMATION CONTACT: Kendra Kline, Telephone: (202) 690-2410 or email: Kendra.C.Kline@usda.gov.

SUPPLEMENTARY INFORMATION: As required by section 21 of the USGSA (7 U.S.C. 87j), as amended, the Secretary of Agriculture (Secretary) established the Advisory Committee on September 29, 1981, to provide advice to the AMS Administrator on implementation of the USGSA. As specified in the USGSA, no member may serve successively for more than 2 terms.

The Advisory Committee consists of 15 members, appointed by the Secretary, who represent the interests of grain producers, processors, handlers, merchandisers, consumers, exporters, and scientists with expertise in research related to the policies in section 2 of the USGSA (7 U.S.C. 74). While members of the Advisory Committee serve without compensation, USDA reimburses them for travel expenses, including per diem in lieu of subsistence, for travel away from their homes or regular places of business in performance of Advisory Committee service (see 5 U.S.C. 5703).

A list of current Advisory Committee members and other relevant information are available on the USDA website at: https://www.ams.usda.gov/about-ams/facas-advisory-councils/giac.

The grain industry that utilizes Official Inspection and Weighing services for barley, canola, corn, flaxseed, oats, rye, soybeans, sorghum, sunflower seed, triticale, wheat, and mixed grain is diverse. AMS is seeking nominations for the Advisory Committee that will reflect the diversity of the grain industry, including, but not limited to, grain producers, processors, handlers, merchandisers, consumers, exporters, and scientists. Therefore, when making recommendations for appointments, the industry must consider the diversity of the population served and the knowledge, skills, and abilities of the members to serve a diverse population.

Nominations are open to all individuals without regard to race, color, religion, gender, national origin, age, mental or physical disability, marital status, or sexual orientation. To ensure that recommendations of the Advisory Committee take into account the needs of the diverse groups served by the USDA, membership shall include, to the extent practicable, individuals with demonstrated ability to represent minorities, women, and persons with disabilities.

Final selection of Advisory Committee members is made by the Secretary.

Dated: June 16, 2021.
Cikena Reid,
USDA Committee Management Officer.

[FR Doc. 2021-13504 Filed 6-24-21; 8:45 am]

BILLING CODE P